ELECTION ASSISTANCE COMMISSION

Sunshine Act Notice

AGENCY: United States Election Assistance Commission.

ACTION: Notice of Public Meeting Agenda.

Date and Time: Tuesday, December 13, 2005, 10 a.m.-12 noon.

Place: U.S. Election Assistance Commission, 1225 New York Ave., NW., Suite 1100, Washington, DC 20005. (Metro Stop: Metro Center).

Agenda: The Commission will receive the following reports: Title II Requirements Payments Update; FY 2006 Appropriations update; and updates on other administrative matters. The Commission will elect the Chair and Vice Chair of the Commission for 2006. The Commission will receive presentations on the Voluntary Voting System Guidelines (VVSG) and consider the VVSG for adoption.

This meeting will be open to the public.

FOR FURTHER INFORMATION CONTACT: Bryan Whitener, Telephone: (202) 566-3100.

Paul S. DeGregorio,
Vice Chairman, U.S. Election Assistance Commission.

[FR Doc. 05-23760 Filed 12-2-05; 4:00 pm]

BILLING CODE 6820-KF-M